OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the listing below are the individual authorities established under Schedules A, B, and C between February 1, 2011, and February 28, 2011. These notices are published monthly in the Federal Register at http://www.federalregister.gov/. A consolidated listing of all authorities as of June 30 is also published each year. The following Schedules are not codified in the Code of Federal Regulations. These are agency-specific exceptions.

Schedule A

No Schedule A authorities to report during February 2011.

Schedule B

No Schedule B authorities to report during February 2011.

Schedule C

The following Schedule C appointments were approved during February 2011.

Agency name | Organization name | Position title | Authorization No. | Effective date
DEPARTMENT OF COMMERCE | Office of Legislative and Intergovernmental Affairs | Director of Legislative Affairs | DC110032 | 2/2/2011
| Office of the Under Secretary | Speechwriter | DC110034 | 2/4/2011
| Office of the Chief of Staff | Director, National Export Events | DC110027 | 2/4/2011
| Office of Assistant Secretary for Legislative and Intergovernmental Affairs | Associate Director of Legislative and Intergovernmental Affairs | DC110038 | 2/4/2011
| Office of Assistant Secretary for Legislative and Intergovernmental Affairs | Associate Director of Legislative Affairs | DC110037 | 2/9/2011
COMMISSION ON CIVIL RIGHTS | Staff Members | Special Assistant | CC110005 | 2/7/2011
DEPARTMENT OF DEFENSE | Office of Assistant Secretary of Defense (Legislative Affairs) | Special Assistant | DD110041 | 2/28/2011
| Office of the Under Secretary of Defense (Personnel and Readiness) | Special Assistant for Reserve Affairs | DD110042 | 2/28/2011
DEPARTMENT OF THE NAVY | Office of the Under Secretary of the Navy | Special Assistant | DN110012 | 2/8/2011
DEPARTMENT OF EDUCATION | Office of English Language Acquisition, Language Enhancement, and Academic Achievement for Limited English Proficient Students | Deputy Director | DB110025 | 2/4/2011
| Office of Special Education and Rehabilitative Services | Confidential Assistant | DB110015 | 2/8/2011
| Department of Education | Deputy Director Program Mgmt and Performance Unit | DB110021 | 2/8/2011
| Office of the Secretary | Special Assistant | DB110019 | 2/10/2011
| Office of Planning, Evaluation and Policy Development | Confidential Assistant | DB110031 | 2/11/2011
| Office of Legislation and Congressional Affairs | Confidential Assistant | DB110030 | 2/11/2011
| Office of Safe and Drug-Free Schools | Special Assistant | DB110020 | 2/11/2011
| Office of Legislation and Congressional Affairs | Special Assistant | DB110029 | 2/11/2011
| Office of Elementary and Secondary Education | Confidential Assistant | DB110032 | 2/23/2011
DEPARTMENT OF ENERGY | National Nuclear Security Administration | Deputy Director of Public Affairs | DE110041 | 2/23/2011
| Loan Programs Office | Assistant Director for External Relations | DE110036 | 2/23/2011
| National Nuclear Security Administration | Director of Congressional Affairs | DE110047 | 2/23/2011
ENVIRONMENTAL PROTECTION AGENCY | Office of the Associate Administrator for Congressional and Intergovernmental Relations | Senior Advisor | EP110018 | 2/18/2011
GENERAL SERVICES ADMINISTRATION | Mid-Atlantic Region Office of Congressional and Intergovernmental Affairs | Special Assistant Deputy Associate Administrator for Legislative Affairs | GS110024 GS110026 | 2/18/2011 2/18/2011
| Office of Congressional and Intergovernmental Affairs | Deputy Associate Administrator for Policy | GS110025 | 2/18/2011
DEPARTMENT OF HEALTH AND HUMAN SERVICES | Office of Public Affairs | Senior Advisor, Office of Public Affairs, Administration for Children and Families | DH110053 | 2/28/2011
| Center for Consumer Information and Insurance Oversight | Senior Advisor | DH110057 | 2/28/2011
DEPARTMENT OF HOMELAND SECURITY | Office of the Assistant Secretary for Policy | Special Assistant | DM110033 | 2/2/2011
| Office of the Chief of Staff | White House Liaison | DM110075 | 2/11/2011
DEPARTMENT OF HOUSING AND URBAN DEVELOPMENT | Office of Sustainable Housing and Communities | Senior Counsel | DU110016 | 2/18/2011
DEPARTMENT OF THE INTERIOR | Office of the Solicitor | Attorney-Advisor | DI110032 | 2/4/2011
| Assistant Secretary—Indian Affairs | Deputy Chief of Staff | DI110033 | 2/17/2011
| Office of Congressional and Legislative Affairs | Special Assistant | DI110037 | 2/23/2011
DEPARTMENT OF JUSTICE | Office of Public Affairs | Deputy Speechwriter | DJ110054 | 2/18/2011
DEPARTMENT OF LABOR | Wage and Hour Division | Senior Advisor | DL110012 | 2/17/2011
| Bureau of International Labor Affairs | Deputy Chief of Staff | DL110009 | 2/25/2011
OFFICE OF MANAGEMENT AND BUDGET | Office of the Director | Confidential Assistant, Government Reorganization Initiative | BO110012 | 2/22/2011
| Office of the Director | Confidential Assistant | BO110010 | 2/23/2011
OFFICE OF THE UNITED STATES TRADE REPRESENTATIVE | Office of the Ambassador | Special Assistant for Scheduling | TN110003 | 2/2/2011
SECURITIES AND EXCHANGE COMMISSION | Office of the Chairman | Confidential Assistant | SE110002 | 2/17/2011
SMALL BUSINESS ADMINISTRATION | Office of the Administrator | Special Assistant | SB110018 | 2/17/2011
| Office of Management and Administration | Senior Advisor for Management and Administration | SB110019 | 2/23/2011
| Office of the Administrator | Special Assistant and Scheduler | SB110021 | 2/28/2011
DEPARTMENT OF STATE | Office of the Counselor | Special Assistant | DS110046 | 2/23/2011
UNITED STATES INTERNATIONAL TRADE COMMISSION | Office of the Chairman | Staff Assistant | TC110003 | 2/25/2011
DEPARTMENT OF VETERANS AFFAIRS | Office of the Assistant Secretary for Public and Intergovernmental Affairs | Special Assistant | DV110004 | 2/7/2011
| Office of the Secretary and Deputy | Special Assistant, White House Liaison | DV110017 | 2/23/2011

Authority: 5 U.S.C. 3301 and 3302; E.O. 10577, 3 CFR 1954-1958 Comp., p. 218.

John Berry,
Director, U.S. Office of Personnel Management.

[FR Doc. 2011-9202 Filed 4-14-11; 8:45 am]

BILLING CODE 6325-39-P